DEPARTMENT OF COMMERCE

Foreign-Trade Zones Board

[B-37-2021]

Foreign-Trade Zone (FTZ) 20—Norfolk, Virginia, Authorization of Production Activity, STIHL, Incorporated (Handheld Outdoor Power Equipment), Virginia Beach, Virginia

On May 3, 2021, STIHL, Incorporated submitted a notification of proposed production activity to the FTZ Board for its facility within Subzone 20E in Virginia Beach, Virginia.

The notification was processed in accordance with the regulations of the FTZ Board (15 CFR part 400), including notice in the Federal Register inviting public comment (86 FR 24841, May 10, 2021). On August 31, 2021, the applicant was notified of the FTZ Board's decision that no further review of the activity is warranted at this time. The production activity described in the notification was authorized, subject to the FTZ Act and the FTZ Board's regulations, including Section 400.14.

Dated: August 31, 2021.
Andrew McGilvray,
Executive Secretary.

[FR Doc. 2021-19051 Filed 9-2-21; 8:45 am]

BILLING CODE 3510-DS-P